NUCLEAR REGULATORY COMMISSION

[Docket No. 40-9075-LR; ASLBP No. 25-987-01-LR-BD01]

Establishment of Atomic Safety and Licensing Board; Powertech (USA) Inc.

Pursuant to the Commission's regulations, see, e.g., 10 CFR §§ 2.104, 2.105, 2.300, 2.309, 2.313, 2.318, 2.321, notice is hereby given that an Atomic Safety and Licensing Board (Board) is being established to preside over the following proceeding:

POWERTECH (USA) INC.

(Dewey Burdock In-Situ Uranium Recovery Facility)

Powertech (USA) Inc. requests a renewed license that, if granted, would authorize it to operate the Dewey-Burdock Uranium In-Situ Recovery Facility for 20 years beyond the period specified in the current license. The facility has not yet been constructed, but if constructed, it would be located in Fall River and Custer Counties, South Dakota.

In response to a notice filed in the Federal Register announcing the opportunity to request a hearing, see 89 FR 65401 (Aug. 9, 2024), the following petitioners filed a hearing request on October 8, 2024: (1) Susan Henderson; and (2) the Oglala Sioux Tribe, Black Hills Clean Water Alliance, and NDN Collective.

The Board is comprised of the following Administrative Judges:

Jeremy A. Mercer, Chair, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland

Dated: October 15, 2024.
Edward R. Hawkens,
Chief Administrative Judge, Atomic Safety and Licensing Board Panel.

[FR Doc. 2024-24195 Filed 10-18-24; 8:45 am]

BILLING CODE 7590-01-P